DEPARTMENT OF ENERGY

Federal Energy Regulatory Commission

Combined Notice of Filings #2

Take notice that the Commission received the following electric corporate filings:

Docket Numbers: EC15-149-000.

Applicants: American Transmission Company LLC.

Description: Application for Authority to Acquire Transmission Facilities Under Section 203 of the FPA of American Transmission Company LLC.

Filed Date: 5/29/15.

Accession Number: 20150529-5347.

Comments Due: 5 p.m. ET 6/19/15.

Take notice that the Commission received the following electric rate filings:

Docket Numbers: ER13-136-003; ER13-135-003; ER13-137-003; ER13-138-003; ER13-141-003; ER13-142-003.

Applicants: Georgia-Pacific Brewton LLC.

Description: Supplement to December 30, 2014 Updated Market Power Analysis in Southeast Region of the Georgia-Pacific Entities.

Filed Date: 5/29/15.

Accession Number: 20150529-5284.

Comments Due: 5 p.m. ET 6/19/15.

Docket Numbers: ER15-1812-000.

Applicants: Midcontinent Independent System Operator, Inc.

Description: Section 205(d) rate filing per 35.13(a)(2)(iii): 2015-05-29_SA 2790 ATC-Alliant Energy Operating Agreement to be effective 7/29/2015.

Filed Date: 5/29/15.

Accession Number: 20150529-5245.

Comments Due: 5 p.m. ET 6/19/15.

Docket Numbers: ER15-1813-000.

Applicants: The Connecticut Light and Power Company.

Description: Section 205(d) rate filing per 35.13(a)(2)(iii): Joint Market Based Tariff to be effective 5/30/2015.

Filed Date: 5/29/15.

Accession Number: 20150529-5294.

Comments Due: 5 p.m. ET 6/19/15.

Docket Numbers: ER15-1814-000.

Applicants: Midcontinent Independent System Operator, Inc.

Description: Section 205(d) rate filing per 35.13(a)(2)(iii): 2015-05-29_SA 2790 Notice of Termination ATC-Alliant OA to be effective 7/29/2015.

Filed Date: 5/29/15.

Accession Number: 20150529-5315.

Comments Due: 5 p.m. ET 6/19/15.

Docket Numbers: ER15-1815-000.

Applicants: Public Service Company of New Hampshire.

Description: Section 205(d) rate filing per 35.13(a)(2)(iii): Joint Market Based Tariff to be effective 5/30/2015.

Filed Date: 5/29/15.

Accession Number: 20150529-5316.

Comments Due: 5 p.m. ET 6/19/15.

Docket Numbers: ER15-1816-000.

Applicants: Western Massachusetts Electric Company.

Description: Section 205(d) rate filing per 35.13(a)(2)(iii): Joint Market Based Tariff to be effective 5/30/2015.

Filed Date: 5/29/15.

Accession Number: 20150529-5322.

Comments Due: 5 p.m. ET 6/19/15.

Docket Numbers: ER15-1817-000.

Applicants: San Diego Gas & Electric Company.

Description: Fourth Annual Informational Filing [Cycle 4] of Fourth Transmission Owner Rate Formula rate mechanism of San Diego Gas & Electric Company.

Filed Date: 5/29/15.

Accession Number: 20150529-5344.

Comments Due: 5 p.m. ET 6/19/15.

Docket Numbers: ER15-1818-000.

Applicants: Southern Company Services, Inc.

Description: Notice of Termination of Service Agreement for Network Integration Transmission Service and Network Operating Agreement between City of Seneca, South Carolina and Southern Company Services, Inc., as agent for Southern Companies.

Filed Date: 5/29/15.

Accession Number: 20150529-5346.

Comments Due: 5 p.m. ET 6/19/15.

Docket Numbers: ER15-1819-000.

Applicants: CED Atwell Island West, LLC.

Description: Initial rate filing per 35.12 CED Atwell West LLC Co-Tenancy Filing to be effective 5/31/2015.

Filed Date: 5/29/15.

Accession Number: 20150529-5359.

Comments Due: 5 p.m. ET 6/19/15.

Docket Numbers: ER15-1820-000.

Applicants: SPS Atwell Island, LLC.

Description: Initial rate filing per 35.12 Filing of Co-Tenancy and Common Facilities Agreement to be effective 5/29/2015.

Filed Date: 5/29/15.

Accession Number: 20150529-5424.

Comments Due: 5 p.m. ET 6/19/15.

Take notice that the Commission received the following electric reliability filings:

Docket Numbers: RR15-10-000.

Applicants: North American Electric Reliability Corp.

Description: North American Electric Reliability Corporation's Report of Budgeted to Actual Costs for 2014 for NERC and the Regional Entities.

Filed Date: 5/29/15.

Accession Number: 20150529-5246.

Comments Due: 5 p.m. ET 6/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2015.
Nathaniel J. Davis, Sr.,
Deputy Secretary.

[FR Doc. 2015-13727 Filed 6-4-15; 8:45 am]

BILLING CODE 6717-01-P